DEPARTMENT OF ENERGY

Federal Energy Regulatory Commission

[Project No. 15045-000]

Current Hydro Project 19, LLC; Notice of Preliminary Permit Application Accepted for Filing and Soliciting Comments, Motions To Intervene, and Competing Applications

On September 28, 2020, Current Hydro Project 19, LLC, filed an application for a preliminary permit, pursuant to section 4(f) of the Federal Power Act, proposing to study the feasibility of hydropower at the existing U.S. Army Corps of Engineers' New Cumberland Locks and Dam located on the Ohio River in Jefferson County, Ohio and Hancock County, West Virginia. The sole purpose of a preliminary permit, if issued, is to grant the permit holder priority to file a license application during the permit term. A preliminary permit does not authorize the permit holder to perform any land-disturbing activities or otherwise enter upon lands or waters owned by others without the owners' express permission.

The proposed New Cumberland Locks and Dam Hydroelectric Project would consist of the following: (1) A new 250-foot-wide, 170-foot-long reinforced concrete powerhouse to be located downstream along the left bank looking downstream; (2) a new 250-foot-wide, 150-foot-long forebay intake area enclosed by reinforced concrete retaining walls immediately downstream of the dam; (3) four 5.275-megawatt (MW) turbine-generator units with a total generating capacity of 21.1 MW; (4) a new 300-foot-wide by 300-foot-long tailrace; (5) a 1,200-foot-long access road; (6) a new 60-foot-long by 60-foot-wide substation with a three-phase step-up transformer; (7) a new 0.3-mile-long, 36.7-kilovolt transmission line; and (8) appurtenant facilities. The proposed project would have an estimated annual generation of 151 gigawatt-hours.

Applicant Contact: Joel Herm/Jan Borchert, Current Hydro, LLC, PO Box 224, Rhinebeck, NY 12572; phone: (917) 244-3607.

FERC Contact: Monir Chowdhury; phone: (202) 502-6736.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

More information about this project, including a copy of the application, can be viewed or printed on the “eLibrary” link of the Commission's website at https://elibrary.ferc.gov/eLibrary/search. Enter the docket number (P-15045) in the docket number field to access the document. For assistance, contact FERC Online Support.

Dated: October 13, 2020.
Kimberly D. Bose,
Secretary.

[FR Doc. 2020-23066 Filed 10-16-20; 8:45 am]

BILLING CODE 6717-01-P